DEPARTMENT OF LABOR

Employment and Training Administration

[TA-W-70,878]

Wachovia, Charlotte, NC; Notice of Termination of Investigation

Pursuant to Section 221 of the Trade Act of 1974, as amended, an investigation was initiated in response to a petition filed on June 2, 2009, by a company official on behalf of workers of Wachovia, Charlotte, North Carolina.

The petitioner has requested that the petition be withdrawn. Accordingly, the investigation has been terminated.

Signed at Washington, DC, this 5th day of August 2009.
Richard Church,
Certifying Officer, Division of Trade Adjustment Assistance.

[FR Doc. E9-20455 Filed 8-25-09; 8:45 am]

BILLING CODE 4510-FN-P